DEPARTMENT OF COMMERCE

International Trade Administration

[A-423-814, A-580-899, A-559-808, A-791-824, A-469-819]

Acetone From Belgium, the Republic of Korea, Singapore, the Republic of South Africa, and Spain: Final Results of the First Expedited Sunset Reviews of the Antidumping Duty Orders

AGENCY: Enforcement and Compliance, International Trade Administration, Department of Commerce.

SUMMARY: As a result of these expedited sunset reviews, the U.S. Department of Commerce (Commerce) finds that revocation of the antidumping duty (AD) orders on acetone from Belgium, the Republic of Korea (Korea), Singapore, the Republic of South Africa (South Africa), and Spain would be likely to lead to the continuation or recurrence of dumping at the dumping margins identified in the “Final Results of Sunset Reviews” section of this notice.

DATES: Applicable March 7, 2025.

FOR FURTHER INFORMATION CONTACT: Dawn Shackleford, Trade Agreements Policy and Negotiations, Enforcement and Compliance, International Trade Administration, U.S. Department of Commerce, 1401 Constitution Avenue NW, Washington, DC 20230; telephone: (202) 482-5758.

SUPPLEMENTARY INFORMATION:

Background

On December 20, 2019, Commerce published in the Federal Register the AD orders on acetone from Singapore and Spain.¹ On March 31, 2020, Commerce published the AD orders on acetone from Belgium, South Africa, and Korea.² On November 4, 2024, Commerce published the Initiation Notice of the first sunset reviews of the Orders, pursuant to section 751(c)(2) of the Tariff Act of 1930, as amended (the Act).³ On November 14, 2024, Commerce received notices of intent to participate in these sunset reviews from the domestic interested party within the deadline specified in 19 CFR 351.218(d)(1)(i).⁴ The domestic interested party stated that it is an interested party under sections 771(9)(E) and (F) of the Act as an ad hoc association of producers of the domestic like product in the United States.⁵ On November 25, 2024, Commerce notified the U.S. International Trade Commission (ITC) that it received notices of intent to participate from the domestic interested party.⁶

¹ See Acetone from Singapore and Spain: Antidumping Duty Orders, 84 FR 70146 (December 20, 2019) (Singapore Order and Spain Order).

² See Acetone from Belgium, the Republic of South Africa, and the Republic of Korea: Antidumping Duty Orders, 85 FR 17866 (March 31, 2020) (Belgium Order, South Africa Order, and Korea Order), (collectively with Singapore Order and Spain Order, Orders).

³ See Initiation of Five-Year (Sunset) Reviews, 89 FR 87543 (November 4, 2024) (Initiation Notice).

⁴ See Domestic Interested Party's Letter, “Five-Year (“Sunset”) Review of the Antidumping Duty Order On Acetone From Belgium, Korea, Singapore, South Africa, and Spain: Domestic Industry's Notice of Intent to Participate,” dated November 13, 2024

⁵ Id. at 2.

⁶ See Commerce's Letter, “Sunset Reviews Initiated on November 4, 2024,” dated November 25, 2024.

Commerce received complete substantive responses from the domestic interested party within the 30-day deadline specified in 19 CFR 351.218(d)(3)(i).⁷ We received no substantive responses from any respondent interested party. On December 26, 2024, Commerce notified the ITC that it did not receive substantive responses from any respondent interested parties.⁸ As a result, pursuant to section 751(c)(3)(B) of the Act and 19 CFR 351.218(e)(l)(ii)(C)(2), Commerce conducted expedited (120-day) sunset reviews of the Orders.

⁷ See Domestic Interested Party's Letters, “First Five-Year (“Sunset”) Review of Antidumping Duty Order On Acetone From Belgium: Domestic Industry's Substantive Response,” dated November 22, 2024; “First Five-Year (“Sunset”) Review of Antidumping Duty Order On Acetone From Korea: Domestic Industry's Substantive Response,” dated November 22, 2024; “First Five-Year (“Sunset”) Review of Antidumping Duty Order On Acetone From Singapore: Domestic Industry's Substantive Response,” dated November 22, 2024; “First Five-Year (“Sunset”) Review of Antidumping Duty Order On Acetone From South Africa: Domestic Industry's Substantive Response,” dated November 22, 2024; “First Five-Year (“Sunset”) Review of Antidumping Duty Order On Acetone From Spain: Domestic Industry's Substantive Response,” dated November 22, 2024.

⁸ See Commerce's Letter, “Sunset Reviews Initiated on November 4, 2024,” dated December 26, 2024.

Scope of the Orders

The products covered by these Orders are acetone from Belgium, Korea, Singapore, South Africa, and Spain. For a full description of the scope of the Orders, see the Issues and Decision Memorandum.⁹

⁹ See Memorandum, “Issues and Decision Memorandum for the Final Results of the Expedited First Sunset Reviews of the Antidumping Duty Orders on Acetone from Belgium, the Republic of Korea, Singapore, the Republic of South Africa, and Spain,” dated concurrently with, and herby adopted by, this notice (Issues and Decision Memorandum).

Analysis of Comments Received

A complete discussion of all issues raised in these sunset reviews is contained in the accompanying Issues and Decision Memorandum.¹⁰ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be directly accessed at https://access.trade.gov/public/FRNoticesListLayout.aspx.

¹⁰ Id.

Final Results of Sunset Review

Pursuant to sections 751(c)(1) and 752(c)(1) and (3) of the Act, Commerce determines that revocation of the Orders would likely lead to the continuation or recurrence of dumping and that the magnitude of the dumping margins likely to prevail would be weighted-average dumping margins up to 28.10 percent for Belgium, 47.86 percent for Korea, 131.75 percent for Singapore, 414.92 percent for South Africa, and 171.81 percent for Spain.¹¹

¹¹ See Orders.

Administrative Protective Order

This notice serves as the only reminder to interested parties subject to an administrative protective order (APO) of their responsibility concerning the return/destruction or conversion to judicial protective order of proprietary information disclosed under APO in accordance with 19 CFR 351.305(a). Timely notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act and 19 CFR 351.221(c)(5)(ii).

Dated: March 3, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margin of Dumping Likely to Prevail

VII. Final Results of Sunset Reviews

VIII. Recommendation

[FR Doc. 2025-03711 Filed 3-6-25; 8:45 am]

BILLING CODE 3510-DS-P